DEPARTMENT OF VETERANS AFFAIRS

Veterans' Advisory Committee on Environmental Hazards; Notice of Meeting

The Department of Veterans Affairs (VA) gives notice under Public Law 92-463 (Federal Advisory Committee Act) that a meeting of the Veterans' Advisory Committee on Environmental Hazards will be held on Thursday and Friday, April 14-15, 2005, from 8 a.m. to 4 p.m. each day. The meeting will be held at 810 Vermont Avenue, NW., Room 446, Washington, DC 20420. The meeting is open to the public.

The purpose of the Committee is to provide advice to the Secretary of Veterans Affairs on adverse health effects that may be associated with exposure to ionizing radiation and to make recommendations on proposed standards and guidelines regarding VA benefit claims based upon exposure to ionizing radiation.

The major items on the agenda for both days will be discussions and analyses of medical and scientific papers concerning the health effects of exposure to ionizing radiation. On the basis of its analyses and discussions, the Committee may make recommendations to the Secretary concerning the relationship of certain diseases with exposure to ionizing radiation. On April 14 there will be a presentation by VA's Public Health and Environmental Hazards Office. The April 15 session will include planning future Committee activities and assignment of tasks among the members.

Those who wish to attend should contact Ms. Bernice Green of the Department of Veterans Affairs, Compensation and Pension Service, 810 Vermont Avenue, NW., Washington, DC 20420, by phone at (202) 273-7210, or by fax at (202) 275-1728. Members of the public may submit written questions or prepared statements for review by the Committee in advance of the meeting. Statements should be sent to Ms. Green's attention at least 5 days prior to the meeting at the address shown above. Those who submit material may be asked to clarify it prior to its consideration by the Committee.

An open forum for verbal statements from the public will also be available for 20 minutes during the morning and 20 minutes in the afternoon each day. Each person who wishes to make a verbal statement before the Committee will be accommodated on a first come, first served basis and will be provided three (3) minutes to present the statement.

Dated: March 3, 2005.
By direction of the Secretary.
E. Philip Riggin,
Committee Management Officer.

[FR Doc. 05-4895 Filed 3-11-05; 8:45 am]

BILLING CODE 8320-01-M